DEPARTMENT OF ENERGY

Federal Energy Regulatory Commission

Notice of Commission Staff Attendance at a Midwest ISO Market-Related Meeting

May 4, 2005.

The Federal Energy Regulatory Commission hereby gives notice that members of its staff may attend the following meeting involving the Midwest Independent Transmission System Operator, Inc. (Midwest ISO), noted below:

Meeting Topic: A review of the first few weeks of energy market operations with special consideration given to dispatch of peaking units, bid/offer procedures, start/stop directions and communications protocols.

Thursday, May 5, 2005 (11 a.m.—4 p.m. e.s.t.)

Lakeside Conference Center (directly across from Midwest ISO's headquarters), 630 West Carmel Drive, Carmel, IN 46032.

The discussions may address matters at issue in the following proceedings:

Docket No. ER04-691 and EL04-104, Midwest Independent Transmission System Operator, Inc., et al.

Docket No. EL02-65-000, et al., Alliance Companies, et al.

Docket No. RT01-87-000, et al., Midwest Independent Transmission System Operator, Inc.

Docket No. ER03-323, et al., Midwest Independent Transmission System Operator, Inc.

Docket No. ER04-375, Midwest Independent Transmission System Operator, Inc., et al.

Docket Nos. EL04-43 and EL04-46, Tenaska Power Services Co. and Cargill Power Markets, LLC v. Midwest Independent Transmission System Operator, Inc.

This meeting is open to the public.

For more information, contact Patrick Clarey, Office of Markets, Tariffs and Rates, Federal Energy Regulatory Commission at (317) 249-5937 or patrick.clarey@ferc.gov, or Christopher Miller, Office of Markets, Tariffs and Rates, Federal Energy Regulatory Commission at (317) 249-5936 or christopher.miller@ferc.gov.

Linda Mitry,
Deputy Secretary.

[FR Doc. E5-2271 Filed 5-9-05; 8:45 am]

BILLING CODE 6717-01-P